SMALL BUSINESS ADMINISTRATION

Advisory Committee on Veterans Business Affairs; Public Meeting

The U.S. Small Business Administration (SBA), pursuant to the Veterans Entrepreneurship and Small Business Development Act of 1999 (Pub. L. 106-50), SBA Advisory Committee on Veterans Business Affairs will host a public federal meeting on Tuesday, April 24, 2007. The meeting will take place at the SBA, 409 3rd Street, SW., Washington, DC 20416, starting at 9 a.m. until 5 p.m. The meeting will be held in the Eisenhower Conference Room, Side B; located on the 2nd floor. The purpose of this meeting is to focus on SBA's services, programs and outreach for veterans and service-disabled veterans.

Anyone wishing to attend must contact Cheryl Clark, Program Liaison in the Office of Veterans Business Development at (202) 205-6773 or send an e-mail to cheryl.clark@sba.gov.

Matthew Teague,
Committee Management Officer.

[FR Doc. E7-6642 Filed 4-9-07; 8:45 am]

BILLING CODE 8025-01-P